DEPARTMENT OF HOUSING AND URBAN DEVELOPMENT

[Docket No. FR-5909-N-29]

30-Day Notice of Proposed Information Collection: Certified Housing Counselor Registration

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: May 16, 2016.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on October 9, 2015 at 80 FR 61224.

A. Overview of Information Collection

Title of Information Collection: Certified Housing Counselor Registration.

OMB Approval Number: 2502—New.

Type of Request: New collection.

Form Number: None.

Description of the need for the information and proposed use: Pursuant to Section 1445 of the Dodd-Frank Act, all individuals providing homeownership or rental housing counseling related to HUD programs must be HUD-certified housing counselors. To become certified, a housing counselor must pass a written examination. HUD established a Housing Counselor Certification Exam and training program, as mandated by Subtitle D of title XIV of the Dodd-Frank Wall Street Reform and Consumer Protection Act (Pub. L. 111-203, 124 Stat. 1376 (July 21, 2010)) (Dodd-Frank Act), and created a Web site for individuals to register for the examination and training. To track individuals using the training, successful passage of the examination, and eligibility for certification, the Web site has a registration requirement. Registration through HUD's certification contractor's Web site for the on-line training will require name, city, state, telephone number, email address, occupation, if employer is a HUD-participating housing counseling agency, and a HUD's Housing Counseling System number. Registration for the practice and certification examinations through this system will require, in addition to the information for general registration, a full mailing address, social security number, language(s) spoken by the counselor when providing counseling servicing, and optional demographic data (race, ethnicity, gender). Collection of social security numbers is required for linking the individual's information to HUD's FHA Connection system, so HUD can verify applicants are employed by participating agencies. HUD estimates the collection of this information to average five minutes for each individual that registers for the on-line training, practice examination, and certification examination. Public reporting burden for this collection of information is estimated to average 1,700 hours per year.

Respondents: Individuals.

Estimated Number of Respondents: 10,700.

Estimated Number of Annual Responses: 3,567.

Frequency of Response: Once.

Average Hours per Response: 15 minutes (.25).

Total Estimated Burdens: 892 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 12, 2016.
Colette Pollard,
Department Reports Management Officer, Office of the Chief Information Officer.

[FR Doc. 2016-08777 Filed 4-14-16; 8:45 am]

BILLING CODE 4210-67-P